DEPARTMENT OF COMMERCE

International Trade Administration

[A-401-806]

Stainless Steel Wire Rod from Sweden: Final Results of Antidumping Duty Administrative Review

AGENCY: Import Administration, International Trade Administration, Department of Commerce.

SUMMARY: On October 6, 2006, the Department of Commerce published the preliminary results of the 2004-2005 administrative review of the antidumping duty order on stainless steel wire rod from Sweden. The review covers one manufacturer/exporter, Fagersta Stainless AB (“FSAB”). The period of review (“POR”) is September 1, 2004, through August 31, 2005.

Based on our analysis of the comments received, we have made changes to the margin calculations. Therefore, the final results differ from the preliminary results. The final weighted-average dumping margin for the reviewed firm is listed below in the section entitled “Final Results of Review.”

EFFECTIVE DATE: April 10, 2007.

FOR FURTHER INFORMATION CONTACT: Brian C. Smith, AD/CVD Operations, Office 2, Import Administration, International Trade Administration, U.S. Department of Commerce, 14th Street and Constitution Avenue, NW., Washington, DC 20230; telephone: (202) 482-1766.

SUPPLEMENTARY INFORMATION:

Background

The review covers one manufacturer/exporter: Fagersta Stainless AB (“FSAB”). The period of review is September 1, 2004, through August 31, 2005.

On October 6, 2006, the Department of Commerce (“the Department”) published the preliminary results of this administrative review of the antidumping duty order on stainless steel wire rod from Sweden. See Stainless Steel Wire Rod from Sweden: Preliminary Results of Antidumping Duty Administrative Review, 71 FR 59082 (October 6, 2006) (“Preliminary Results”). We invited interested parties to comment on the preliminary results of review.¹

¹ In the Preliminary Results, we determined it appropriate to treat FSAB and its affiliates, AB Sandvik Materials Technology (“SMT”) and Kanthal AB (“Kanthal”), as one entity for margin calculation purposes because they met the regulatory criteria for collapsing affiliated producers. See April 13, 2006, Memorandum from the Team to The File, entitled “Stainless Steel Wire Rod from Sweden: Whether to Collapse FSAB, SMT, and Kanthal.” No party objected to this preliminary determination. Therefore, we have continued to treat these affiliated companies as one entity in the final results.

FSAB filed its case brief on November 27, 2006, and the petitioners² filed their rebuttal brief on December 4, 2006. Per FSAB's November 3, 2006, request, we held a hearing on December 6, 2006.

² The petitioners include the following companies: Carpenter Technology Corporation; Crucible Specialty Metals Division, Crucible Materials Corporation; and Electroalloy Corporation, a Division of G.O. Carlson, Inc.

On January 11, 2007, we extended the time limit for the final results in this review until April 4, 2007. See Notice of Extension of Time Limit for Final Results of Antidumping Duty Administrative Review: Stainless Steel Wire Rod from Sweden, 72 FR 2261 (January 18, 2007).

We have conducted this administrative review in accordance with section 751(a) of the Tariff Act of 1930, as amended (“the Act”).

Scope of the Order

For purposes of this order, SSWR comprises products that are hot-rolled or hot-rolled annealed and/or pickled and/or descaled rounds, squares, octagons, hexagons or other shapes, in coils, that may also be coated with a lubricant containing copper, lime or oxalate. SSWR is made of alloy steels containing, by weight, 1.2 percent or less of carbon and 10.5 percent or more of chromium, with or without other elements. These products are manufactured only by hot-rolling or hot-rolling annealing, and/or pickling and/or descaling, are normally sold in coiled form, and are of solid cross-section. The majority of SSWR sold in the United States is round in cross-sectional shape, annealed and pickled, and later cold-finished into stainless steel wire or small-diameter bar. The most common size for such products is 5.5 millimeters or 0.217 inches in diameter, which represents the smallest size that normally is produced on a rolling mill and is the size that most wire-drawing machines are set up to draw. The range of SSWR sizes normally sold in the United States is between 0.20 inches and 1.312 inches in diameter.

Certain stainless steel grades are excluded from the scope of the order. SF20T and K-M35FL are excluded. The following proprietary grades of Kanthal AB are also excluded: Kanthal A-1, Kanthal AF, Kanthal A, Kanthal D, Kanthal DT, Alkrothal 14, Alkrothal 720, and Nikrothal 40. The chemical makeup for the excluded grades is as follows:

SF20T
Carbon | 0.05 max | Chromium | 19.00/21.00
Manganese | 2.00 max | Molybdenum | 1.50/2.50
Phosphorous | 0.05 max | Lead | added (0.10/0.30)
Sulfur | 0.15 max | Tellurium | added (0.03 min)
Silicon | 1.00 max

K-M35FL
Carbon | 0.015 max | Nickel | 0.30 max
Silicon | 0.70/1.00 | Chromium | 12.50/14.00
Manganese | 0.40 max | Lead | 0.10/0.30
Phosphorous | 0.04 max | Aluminum | 0.20/0.35
Sulfur | 0.03 max

Kanthal A-1
Carbon | 0.08 max | Aluminum | 5.30 min, 6.30 max
Silicon | 0.70 max | Iron | balance
Manganese | 0.40 max | Chromium | 20.50 min, 23.50 max

Kanthal AF
Carbon | 0.08 max | Aluminum | 4.80 min, 5.80 max
Silicon | 0.70 max | Iron | balance
Manganese | 0.40 max
Chromium | 20.50 min, 23.50 max

Kanthal A
Carbon | 0.08 max | Aluminum | 4.80 min, 5.80 max
Silicon | 0.70 max | Iron | balance
Manganese | 0.50 max
Chromium | 20.50 min, 23.50 max

Kanthal D
Carbon | 0.08 max | Aluminum | 4.30 min, 5.30 max
Silicon | 0.70 max | Iron | balance
Manganese | 0.50 max
Chromium | 20.50 min, 23.50 max

Kanthal DT
Carbon | 0.08 max | Aluminum | 4.60 min, 5.60 max
Silicon | 0.70 max | Iron | balance
Manganese | 0.50 max
Chromium | 20.50 min, 23.50 max

Alkrothal 14
Carbon | 0.08 max | Aluminum | 3.80 min, 4.80 max
Silicon | 0.70 max | Iron | balance
Manganese | 0.50 max
Chromium | 14.00 min, 16.00 max

Alkrothal 720
Carbon | 0.08 max | Aluminum | 3.50 min, 4.50 max
Silicon | 0.70 max | Iron | balance
Manganese | 0.70 max
Chromium | 12.00 min, 14.00 max

Nikrothal 40
Carbon | 0.10 max | Nickel | 34.00 min, 37.00 max
Silicon | 1.60 min, 2.50 max | Iron | balance
Manganese | 1.00 max
Chromium | 18.00 min, 21.00 max

The subject merchandise is currently classifiable under subheadings 7221.00.0005, 7221.00.0015, 7221.00.0030, 7221.00.0045, and 7221.00.0075 of the Harmonized Tariff Schedule of the United States (“HTSUS”). Although the HTSUS subheadings are provided for convenience and customs purposes, the written description of the scope of this order is dispositive.

Analysis of Comments Received

All issues raised in the case and rebuttal briefs submitted by the parties to this antidumping duty administrative review are addressed in the “Issues and Decision Memorandum” (Decision Memo) from Stephen J. Claeys, Deputy Assistant Secretary for Import Administration, to David M. Spooner, Assistant Secretary for Import Administration, dated April 4, 2006, which is hereby adopted by this notice. A list of the issues that parties have raised and to which we have responded, all of which are in the Decision Memo, is attached to this notice as an appendix. Parties can find a complete discussion of all issues raised in this review and the corresponding recommendations in this public memorandum which is on file in the Central Records Unit, room B-099 of the main Department building. In addition, a complete version of the Decision Memo can be accessed directly on the Web at http://ia.ita.doc.gov/frn. The paper copy and electronic version of the Decision Memo are identical in content.

Changes from the Preliminary Results

Based on the information submitted and our analysis of the comments received, we have made certain changes to the margin calculations for FSAB as follows.

(1) We matched products of identical grade first before matching products of the next most similar grade and, where appropriate, attempted to match products beyond the top three most similar grades before resorting to constructed value (“CV”), consistent with our intent in the preliminary results and in accordance with the Department's practice. See Comment 2 for further discussion.

(2) We included in our final margin analysis a U.S. sales transaction made by FSAB's U.S. affiliate, Fagersta Stainless Inc. (“FSI”), for which the entry date was within the POR but the sale date preceded the POR, in accordance with the Department's normal practice to review sales associated with entries made during the review period. See Comment 3 for further discussion.

(3) We corrected a clerical error by applying the general and administrative (“G&A”) expenses and further manufacturing costs, which were recalculated in the Preliminary Results, to only the U.S. sales of FSAB's other U.S. affiliate, Sandvik Metallurgical Technology U.S. (“SMT U.S.”), for which SMT U.S. reported an amount for further manufacturing. See Comment 4 for further discussion.

(4) For SMT U.S.' sales of merchandise that was further manufactured but for which SMT U.S. did not report a further manufacturing cost, we applied as facts available under section 776(a)(1) of the Act, a weighted average of the costs reported by SMT U.S. for its other U.S. sales of further-manufactured merchandise, as recalculated for purposes of the Preliminary Results, and deducted this amount from the prices of the U.S. sales at issue. See Comment 4 for further discussion.

(5) We used SMACC's³ cost of producing billets reported in the August 18, 2006, Section D supplemental questionnaire response to compare to the market price of billets and to the transfer price FSAB paid to SMACC for billets used to make the merchandise under consideration. We also excluded an additional G&A expense relevant to Outokumpu Oyj⁴ which had been incorrectly added to SMACC's cost of production for purposes of the Preliminary Results. In addition, we included the total net foreign exchange gain or loss in the calculation of Outokumpu Oyj's consolidated financial expense rate that was applied to SMACC's cost of producing the billets, in accordance with Department practice. See Comment 5 for further discussion.

³ SMACC or Outokumpu Stainless Ltd. Sheffield is affiliated with FSAB.

⁴ Outokumpu Oyj is the consolidated parent of SMACC.

(6) We corrected a clerical error by subtracting the adjustment to SMT's⁵ transfer price from FSAB's cost of billets prior to calculating FSAB's total cost of manufacturing.

⁵ AB Sandvik Materials Technology or SMT is affiliated with FSAB and is also the parent company of SMT U.S.

(7) We corrected a clerical error by converting FSAB's U.S. affiliate's reported U.S. inventory carrying costs from SEK/kg. to USD/lb. in the margin calculations.

See April 4, 2007, Memorandum from Case Analyst to The File, entitled “Calculation Memorandum for the Final Results for Fagersta Stainless AB"; and April 4, 2007, Memorandum to Neal M. Halper from Michael P. Harrison, entitled “Cost of Production, Constructed Value and Further Manufacturing Calculation Adjustments for the Final Results - Fagersta Stainless AB,” for further details.

Final Results of Review

We determine that the following weighted-average margin percentage exists:

Manufacturer/exporter | Margin (percent)
Fagersta Stainless AB/AB Sandvik Materials Technology/Kanthal AB | 20.42

Assessment Rates

The Department shall determine, and U.S. Customs and Border Protection (“CBP”) shall assess, antidumping duties on all appropriate entries, in accordance with 19 CFR 351.212(b). The Department will issue appropriate appraisement instructions for the company subject to this review directly to CBP 15 days after publication of these final results of review. In accordance with 19 CFR 351.106(c), we will instruct CBP to assess antidumping duties on all appropriate entries covered by this review if any importer-specific assessment rate calculated in the final results of this review is above de minimis (i.e., is not less than 0.50 percent ad valorem). For entries made by FSAB on behalf of its U.S. affiliate, FSI, we calculated the importer-specific ad valorem duty assessment rate based on the ratio of the total amount of antidumping duties calculated for the examined sales to the total entered value of those sales. However, for shipments of subject merchandise produced by FSAB and imported by its U.S. affiliate, SMT U.S., where the respondent was unable to provide the entered value, we calculated the importer-specific per-unit duty assessment rate by aggregating the total amount of antidumping duties calculated for the examined sales and divided this amount by the total quantity of those sales. To determine whether the per-unit duty assessment rate is de minimis, in accordance with the requirement set forth in 19 CFR 351.106(c)(2), we calculated an importer-specific ad valorem ratio based on the estimated entered value.

The Department clarified its “automatic assessment” regulation on May 6, 2003. See Antidumping and Countervailing Duty Proceedings: Assessment of Antidumping Duties, 68 FR 23954 (May 6, 2003). This clarification will apply to entries of subject merchandise during the POR produced by the company included in these final results of review for which the reviewed company did not know that the merchandise it sold to the intermediary (e.g., reseller, trading company, or exporter) was destined for the United States. In such instances, we will instruct CBP to liquidate unreviewed entries at the “All Others” rate if there is no rate for the intermediary involved in the transaction. For a full discussion of this clarification, see Antidumping and Countervailing Duty Proceedings: Assessment of Antidumping Duties, 68 FR 23954 (May 6, 2003).

Cash Deposit Requirements

The following cash deposit requirements will be effective for all shipments of the subject merchandise entered, or withdrawn from warehouse, for consumption on or after the publication date of the final results of this administrative review, as provided by section 751(a)(1) of the Act: (1) the cash deposit rate for FSAB/SMT/Kanthal will be the rate indicated above; (2) for previously investigated companies not listed above, the cash deposit rate will continue to be the company-specific rate published for the most recent period; (3) if the exporter is not a firm covered in this review, a prior review, or the original less-than-fair-value (“LTFV”) investigation, but the manufacturer is, then the cash deposit rate will be the rate established for the most recent period for the manufacturer of the merchandise; and (4) the cash deposit rate for all other manufacturers or exporters will continue to be 5.71 percent. This rate is the “All Others” rate from the LTFV investigation. These deposit requirements shall remain in effect until further notice.

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

We are issuing and publishing this determination and notice in accordance with sections 751(a)(1) and 777(i) of the Act and 19 CFR 351.221.

Dated: April 4, 2007,
Stephen J. Claeys,
Deputy Assistant Secretary for Import Administration.

Appendix List of Issues

Comment 1: Whether to Include Electroslag Refining As a Model-Matching Criterion

Comment 2: Grade-Matching Methodology

Comment 3: Treatment of One U.S. Sale Entered During the POR But Sold Prior to the POR

Comment 4: Application of Further Manufacturing G&A Expenses to Sales of Non-Further Manufactured Merchandise

Comment 5: Calculation of Affiliated Supplier's Billet Cost

[FR Doc. E7-6749 Filed 4-9-07; 8:45 am]

BILLING CODE 3510-DS-S